COMMISSION ON CIVIL RIGHTS

Sunshine Act Meeting Notice

AGENCY: United States Commission on Civil Rights.

ACTION: Notice of Commission Business Meeting.

DATES: Friday, August 19, 2016, at 10:00 a.m. EST.

ADDRESSES: National Place Building, 1331 Pennsylvania Ave. NW., 11th Floor, Suite 1150, Washington, DC 20245 (Entrance on F Street NW.).

FOR FURTHER INFORMATION CONTACT: Brian Walch, Communications and Public Engagement Director. Telephone: (202) 376-8371; TTY: (202) 376-8116; Email: publicaffairs@usccr.gov.

SUPPLEMENTARY INFORMATION: This business meeting is open to the public. If you would like to listen to the business meeting, please contact the above for the call-in information.

Hearing-impaired persons who will attend the briefing and require the services of a sign language interpreter should contact Juanda Smith at (202) 376-8105 or at signlanguage@usccr.gov at least seven business days before the scheduled date of the meeting.

Meeting Agenda

I. Approval of Agenda

II. Business Meeting

A. Program Planning

• Discussion and vote on Commission statement concerning recent settlement requiring Texas to issue birth certificates to U.S. citizen children of undocumented immigrants.

• Discussion and vote on Commission statement commemorating the first Asian American Member of Congress, Dalip Singh Saund.

• Discussion and vote on Commission statement concerning the 100th Anniversary of the first female elected to Congress.

• Discussion and vote on Commission Press Release on USCCR Report on Peaceful Coexistence.

• Discussion and vote on Commission Press Release on Selection of Women in Prison as topic for 2017 Statutory Enforcement report.

• Discussion and vote on Commission statement concerning U.S. Supreme Court's decision in G.G. v. Gloucester County School Board.

• Discussion and vote on a letter to the Department of Education and Department of Justice Re: The Oklahoma State Advisory Committee's Report “Civil Rights and the School-to-Prison Pipeline in Oklahoma.”

B. State Advisory Committees

• Presentation by North Carolina State Advisory Committee (SAC) Chair Matty Lazo-Chadderton on Civil Rights and Environmental Justice in North Carolina.

• State Advisory Committee Appointments

• North Carolina

• Kansas

• District of Columbia

• Ohio

C. Management and Operations

• Discussion and Vote on Commission 2017 Business Meeting Calendar.

• Discussion on 2017 Commemoration of 60th Anniversary of USCCR.

• Staff Director's Report.

III. Adjourn Meeting

Dated: August 9, 2016.
Brian Walch,
Director of Communications & Public Engagement, U.S. Commission on Civil Rights.

[FR Doc. 2016-19311 Filed 8-10-16; 11:15 am]

BILLING CODE 6335-01-P